DEPARTMENT OF COMMERCE

National Oceanic and Atmospheric Administration

RIN 0648-XD581

Pacific Fishery Management Council; Public Meetings

AGENCY: National Marine Fisheries Service (NMFS), National Oceanic and Atmospheric Administration (NOAA), Commerce.

ACTION: Notice of public meetings.

SUMMARY: The Council and its advisory entities will hold public meetings.

DATES: The Council and its advisory entities will meet November 12-19, 2014. The Council meeting will begin on Friday, November 14, 2014 at 1 p.m., reconvening each day through Wednesday, November 19, 2014. All meetings are open to the public, except a closed session will be held for approximately one hour at 1 p.m. on Friday, November 14 to address litigation and personnel matters. The Council will meet as late as necessary each day to complete its scheduled business.

ADDRESSES: The meetings will be held at the Hilton Orange County Costa Mesa, 3050 Bristol Street, Costa Mesa, CA 92626; telephone: (714) 540-7000.

Council address: Pacific Fishery Management Council, 7700 NE Ambassador Place, Suite 101, Portland, OR 97220. Instructions for attending the meeting via live stream broadcast are given under SUPPLEMENTARY INFORMATION, below.

FOR FURTHER INFORMATION CONTACT: Dr. Donald O. McIsaac, Executive Director; telephone: (503) 820-2280 or (866) 806-7204 toll free; or access the Council Web site, http://www.pcouncil.org for the current meeting location, proposed agenda, and meeting briefing materials.

SUPPLEMENTARY INFORMATION: The November 14-19, 2014 meeting of the Pacific Fishery Management Council will be streamed live on the Internet. The live meeting will be broadcast daily starting at 2 p.m. Pacific Time (PT) on Friday, November 14, 2014 through Wednesday, November 19, 2014. The broadcast will end daily at 6 p.m. PT or when business for the day is complete. Only the audio portion, and portions of the presentations displayed on the screen at the Council meeting, will be broadcast. The audio portion is listen-only; you will be unable to speak to the Council via the broadcast. Join the meeting by visiting this link http://www.joinwebinar.com, enter the Webinar ID for this meeting, which is 430-417-591 and enter your email address as required. It is recommended that you use a computer headset as GoToMeeting allows you to listen to the meeting using your computer headset and speakers. If you do not have a headset and speakers, you may use your telephone for the audio portion of the meeting by dialing this TOLL number 1-646-307-1719 (not a toll free number); entering the phone audio access code 536-452-326; and then entering your Audio Pin which will be shown to you after joining the webinar. The webinar is broadcast in listen only mode.

The following items are on the Pacific Council agenda, but not necessarily in this order. Agenda items noted as “(Final Action)” refer to actions requiring the Council to transmit a proposed fishery management plan, proposed plan amendment, or proposed regulations to the Secretary of Commerce, under Sections 304 or 305 of the Magnuson-Stevens Fishery Conservation and Management Act. Additional detail on agenda items, Council action, and meeting rooms, is described in Agenda Item A.4, Proposed Council Meeting Agenda, and will be in the advance November 2014 briefing materials and posted on the Council Web site (www.pcouncil.org).

A. Call to Order

1. Opening Remarks

2. Roll Call

3. Executive Director's Report

4. Approve Agenda

B. Open Comment Period

1. Comments on Non-Agenda Items

C. Administrative Matters

1. Marine Planning Update

2. Recreational Fisheries Policy Update

3. National Marine Fisheries Service West Coast Region Strategic Plan

4. Approval of Council Meeting Minutes

5. Fiscal Matters

6. Advisory Body Position Appointments and Council Operating Procedures

7. Future Council Meeting Agenda and Workload Planning

D. Habitat

1. Current Habitat Issues

E. Coastal Pelagic Species Management

1. National Marine Fisheries Service Report

2. Sardine Harvest Fraction (Final Action)

3. Methodology Preliminary Topic Selection and Review Process

4. 2015 Exempted Fishing Permit (EFP) Notice of Intent

F. Salmon Management

1. National Marine Fisheries Service Report

2. Salmon Methodology Review (Final Action)

3. Preseason Salmon Management Schedule for 2015

4. Lower Columbia Coho Harvest Matrix (Final Action)

G. Pacific Halibut Management

1. 2015 Pacific Halibut Catch Sharing Plan and Regulations (Final Action)

H. Ecosystem Management

1. Report on the Atlantis Model Review

I. Highly Migratory Species Management

1. National Marine Fisheries Service Report

2. International Activities

3. Bluefin Tuna Management Measures for 2015-16 Fisheries (Final Action)

4. Drift Gillnet Hard Caps and Other Adopted Priorities for 2015-16 Fisheries

J. Groundfish Management

1. National Marine Fisheries Service Report

2. Widow Rockfish Reallocation and Divestiture Issues

3. Initial Consideration of Blackgill Rockfish Reallocation

4. Groundfish Management Ongoing Rulemaking (Final Action)

5. Economic Data Collection Program Report on Fishery Status and Overview on Social Science Research

6. Methodology Review Process Council Operating Procedure

7. Reconsideration of Open Access Registration under Amendment 22 (Final Action)

8. Consideration of Inseason Adjustments (Final Action)

Schedule of Ancillary Meetings

Day 1—Wednesday, November 12, 2014

Scientific and Statistical Committee Groundfish Subcommittee—9 a.m.

Day 2—Thursday, November 13, 2014

Scientific and Statistical Committee—8 a.m.

Habitat Committee—8:30 a.m.

Budget Committee—2:30 p.m.

Day 3—Friday, November 14, 2014

California State Delegation—7 a.m.

Oregon State Delegation—7 a.m.

Washington State Delegation—7 a.m.

Coastal Pelagic Species Advisory Subpanel—8 a.m.

Salmon Advisory Subpanel—8 a.m.

Scientific and Statistical Committee—8 a.m.

Legislative Committee—9 a.m.

Annual Banquet—6 p.m.

Day 4—Saturday, November 15, 2014

California State Delegation—7 a.m.

Oregon State Delegation—7 a.m.

Washington State Delegation—7 a.m.

Highly Migratory Species Advisory Subpanel—8 a.m.

Highly Migratory Species Management Team—8 a.m.

Salmon Advisory Subpanel—8 a.m.

Groundfish Advisory Subpanel—1 p.m.

Groundfish Management Team—1 p.m.

Enforcement Consultants—3 p.m.

Day 5—Sunday, November 16, 2014

California State Delegation—7 a.m.

Oregon State Delegation—7 a.m.

Washington State Delegation—7 a.m.

Groundfish Advisory Subpanel—8 a.m.

Groundfish Management Team—8 a.m.

Highly Migratory Species Advisory Subpanel—8 a.m.

Highly Migratory Species Management Team—8 a.m.

Enforcement Consultants—Ad hoc

Day 6—Monday, November 17, 2014

California State Delegation—7 a.m.

Oregon State Delegation—7 a.m.

Washington State Delegation—7 a.m.

Groundfish Advisory Subpanel—8 a.m.

Groundfish Management Team—8 a.m.

Highly Migratory Species Advisory Subpanel—8 a.m.

Highly Migratory Species Management Team—8 a.m.

Enforcement Consultants—Ad hoc

National Marine Fisheries Service Mid-Water Gear Bottom Contact Meeting—7 p.m.

Day 7—Tuesday, November 18, 2014

California State Delegation—7 a.m.

Oregon State Delegation—7 a.m.

Washington State Delegation—7 a.m.

Groundfish Advisory Subpanel—8 a.m.

Groundfish Management Team—8 a.m.

Enforcement Consultants Ad hoc

Day 8—Wednesday, November 19, 2014

California State Delegation—7 a.m.

Oregon State Delegation—7 a.m.

Washington State Delegation—7 a.m.

Although non-emergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Carolyn Porter at (503) 820-2280 at least 5 days prior to the meeting date.

Dated: October 21, 2014.
Tracey L. Thompson,
Acting Deputy Director, Office of Sustainable Fisheries, National Marine Fisheries Service.

[FR Doc. 2014-25368 Filed 10-24-14; 8:45 am]

BILLING CODE 3510-22-P